FEDERAL COMMUNICATIONS COMMISSION

47 CFR Part 27

[WT Docket No. 99-168, DA 00-1680]

Service Rules for the 746-764 and 776-794 MHz Bands

AGENCY: Federal Communications Commission.

ACTION: Final rule; correction.

SUMMARY: On April 4, 2000, the Commission published in the Federal Register a document, which established service rules for licensing Guard Bands that encompass six megahertz of spectrum in the 746-764 MHz and 776-794 MHz bands which have been reallocated for commercial use from their previous use for the broadcasting service. This document corrects an erroneous reference to CC Docket No. 99-168 in the preamble of that document.

DATES: Effective September 21, 2000.

FOR FURTHER INFORMATION CONTACT: Jane Phillips, 202-418-1310.

SUPPLEMENTARY INFORMATION: The Commission, in the preamble of FR Doc 00-8144, published in the Federal Register of April 4, 2000, (65 FR 17594), incorrectly referred to CC Docket No. 99-168 in the caption listing the docket numbers effected by the action. This document corrects that omission.

In FR Doc 00-8144, published on April 4, 2000, make the following correction: On page 17594, in the third column, in the docket line, correct “CC Docket No. 99-168” to read “WT Docket No. 99-168.”

Federal Communications Commission.
Magalie Roman Salas,
Ssecretary.

[FR Doc. 00-21345 Filed 9-20-00; 8:45 am]

BILLING CODE 6712-01-P